DEPARTMENT OF COMMERCE

National Oceanic and Atmospheric Administration

RIN 0648-X027

International Whaling Commission; 61st Annual Meeting; Announcement of Public Meetings

AGENCY: National Marine Fisheries Service (NMFS), National Oceanic and Atmospheric Administration (NOAA), Commerce.

ACTION: Notice of meetings.

SUMMARY: This notice announces the date, time, and location of the public meetings being held prior to the 61st annual International Whaling Commission (IWC) meeting.

DATES: The public meetings will be held May 27 and May 29, 2009, at 1 p.m.

ADDRESSES: The meeting on May 27th will be held in the Chesapeake Room of the Crowne Plaza Hotel, 8777 Georgia Avenue, Silver Spring, MD 20910. The meeting on May 29th will be held in the NOAA Western Regional Center Auditorium, 7600 Sand Point Way N.E., Seattle, WA 98115.

FOR FURTHER INFORMATION CONTACT: Ryan Wulff, 301-713-9090, Extension 196.

SUPPLEMENTARY INFORMATION: The Secretary of Commerce is charged with the responsibility of discharging the domestic obligations of the United States under the International Convention for the Regulation of Whaling, 1946. The U.S. Commissioner has responsibility for the preparation and negotiation of U.S. positions on international issues concerning whaling and for all matters involving the IWC. He is staffed by the Department of Commerce and assisted by the Department of State, the Department of the Interior, the Marine Mammal Commission, and by other agencies.

Once the draft agenda for the annual IWC meeting is completed, it will be posted on the IWC Secretariat's website at http://www.iwcoffice.org.

NOAA will hold meetings prior to the annual IWC meeting to discuss the tentative U.S. positions for the upcoming IWC meeting, including the upcoming report of the Small Working Group. Because the meeting discusses U.S. positions, the substance of the meeting must be kept confidential. Any U.S. citizen with an identifiable interest in U.S. whale conservation policy may participate, but NOAA reserves the authority to inquire about the interests of any person who appears at a meeting and to determine the appropriateness of that person's participation.

Persons who represent foreign interests may not attend. These stringent measures are necessary to protect the confidentiality of U.S. negotiating positions and are a necessary basis for the relatively open process of preparing for IWC meetings.

The May 27th meeting will be held at 1 p.m. in the Chesapeake Room of the Crowne Plaza Hotel, 8777 Georgia Avenue, Silver Spring, MD 20910. The meeting on May 29th will be held at 1 p.m. in the NOAA Western Regional Center Auditorium, 7600 Sand Point Way N.E., Seattle, WA 98115. WA. Photo identification is required to enter the building.

Special Accommodations

Both meetings are physically accessible to people with disabilities. Requests for sign language interpretation or other auxiliary aids should be directed to Ryan Wulff, 301-713-9090 by May 4, 2009.

Dated: April 16, 2009.
Rebecca J. Lent,
Director, Office of International Affairs, National Marine Fisheries Service.

[FR Doc. E9-9256 Filed 4-21-09; 8:45 am]

BILLING CODE 3510-22-S